DEPARTMENT OF ENERGY

Federal Energy Regulatory Commission

[Docket No. ER01-1647-001, et al.]

Virginia Electric and Power Company, et al.; Electric Rate and Corporate Regulation Filings

April 16, 2001.

Take note that the following filings have been made with the Commission:

1. Virginia Electric and Power Company

[Docket No. ER01-1647-001]

Take notice that on April 10, 2001, Virginia Electric and Power Company, doing business as Dominion North Carolina Power (the Company) tendered for filing a substitute Original Sheet No. 34 for the North Carolina Electric Membership Corporation Agreement for the Purchase of Electricity for Resale from Virginia Electric and Power Company, Rate Schedule FERC No. 105. The substitute sheet updates Appendix D, List of Delivery Points, to reflect the new Hartsease delivery point for Edgecombe-Martin County Electric Membership Corporation, a North Carolina Electric Membership Corporation member cooperative. In the above-captioned proceeding, the Company filed a letter agreement to reflect the addition of this new Hartsease delivery point.

Copies of the filing were served upon NCEMC, North Carolina Utilities Commission and the Virginia State Corporation Commission.

Comment date: May 1, 2001, in accordance with Standard Paragraph E at the end of this notice.

2. Southern California Edison Company

[Docket No. ER01-1774-000]

Take notice that on April 11, 2001, Southern California Edison Company (SCE) tendered for filing the Interconnection Facilities Agreement (Alamitos Agreement) between SCE and AES Alamitos, L.L.C. (AES Alamitos), and the Interconnection Facilities Agreement (Huntington Beach Agreement) between SCE and AES Huntington Beach, L.L.C. (AES Huntington Beach). These agreements set forth the terms for the parties to interconnect 1210 MW of additional generation capacity to the California Independent System Operator Controlled Grid pursuant to SCE's Transmission Owner Tariff, FERC Electric Tariff, First Revised Original Volume No. 6.

SCE requests that the Alamitos Agreement and the Huntington Beach Agreement become effective on June 1, 2001.

Copies of this filing were served upon the Public Utilities Commission of the State of California, AES Alamitos, and AES Huntington Beach.

Comment date: May 2, 2001, in accordance with Standard Paragraph E at the end of this notice.

3. Michigan Electric Transmission Company

[Docket No. ER01-1775-000]

Take notice that on April 11, 2001, Michigan Electric Transmission Company (Michigan Transco) tendered for filing an executed revised Service Agreement for Network and Firm and Non-Firm Point to Point Transmission Service with Quest Energy, L.L.C. (Customer) pursuant to the Joint Open Access Transmission Service Tariff filed on February 22, 2001 by Michigan Transco and International Transmission Company (ITC). Michigan Transco is requesting an effective date of April 1, 2001.

Customer is taking service under the Service Agreement in connection with Consumers Energy Company's (Consumers) Electric Customer Choice program.

Copies of the filed agreement were served upon the Michigan Public Service Commission, ITC, Consumers and the Customer.

Comment date: May 2, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9892 Filed 4-20-01; 8:45 am]

BILLING CODE 6717-01-P